OFFICE OF THE UNITED STATES TRADE REPRESENTATIVE

Implementation of Textile Safeguard Measure Under the Dominican Republic—Central America—United States Free Trade Agreement

AGENCY: Office of the United States Trade Representative.

ACTION: Notice.

SUMMARY: Pursuant to Proclamation 8228 of March 28, 2008 (73 Fed. Reg. 18,141 (2008)), the United States Trade Representative (USTR) is providing notice of a modification to the Harmonized Tariff Schedule of the United States (HTS) to reflect a textile safeguard measure under the Dominican Republic—Central America—United States Free Trade Agreement (CAFTA-DR or the Agreement).

EFFECTIVE DATE: May 1, 2008.

ADDRESSES: Inquiries may be mailed, delivered, or faxed to Rachel A. Alarid, Director of Textile Trade Policy, Office of the United States Trade Representative, 600 17th Street, NW., Washington, DC 20508, fax number (202) 395-5639.

FOR FURTHER INFORMATION CONTACT: Rachel A. Alarid, Office of the United States Trade Representative, 202-395-3026.

SUPPLEMENTARY INFORMATION: On April 25, 2008, the Committee for the Implementation of Textile Agreements (CITA) determined, pursuant to Section 322(a)-(b) of the Dominican Republic—Central America—United States Free Trade Agreement Implementation Act (Pub. L. 109-53; 19 U.S.C. 4082), to impose a textile safeguard measure on certain cotton socks of Honduras. This measure takes the form of an increase in the rate of duty in the amount of 5 percent ad valorem on all CAFTA-DR originating cotton socks of Honduras classifiable in subheading 6115.95 of the HTS that are entered, or withdrawn from warehouse, for consumption during the period July 1, 2008 through December 31, 2008. This duty will be applied on the full value of the entered goods, regardless of the value of any United States content of such goods. See 73 Fed. Reg. 23,196 (2008).

In Proclamation 8228 of March 28, 2008, the President directed the USTR to modify the HTS to reflect CAFTA-DR textile safeguard determinations by CITA. Pursuant to this authority, effective with respect to goods of Honduras, under the terms of general note 29 to the HTS, that are entered, or withdrawn from warehouse for consumption, on or after July 1, 2008 and before the close of December 31, 2008, subchapter XV of chapter 99 of the HTS is hereby modified as follows:

Susan C. Schwab,
U.S. Trade Representative.

[FR Doc. E8-10350 Filed 5-8-08; 8:45 am]

BILLING CODE 3190-W8-P